DEPARTMENT OF COMMERCE

National Oceanic and Atmospheric Administration

[I.D. 081502F]

New England Fishery Management Council; Public Meetings

AGENCY: National Marine Fisheries Service (NMFS), National Oceanic and Atmospheric Administration (NOAA), Commerce.

ACTION: Notice of public meeting.

SUMMARY: The New England Fishery Management Council (Council) is scheduling a public meeting of its Scallop Oversight Committee in September, 2002. Recommendations from the committee will be brought to the full Council for formal consideration and action, if appropriate.

DATES: The meeting will held on Monday, September 9, 2002, at 1 p.m.

ADDRESSES: The meeting will be held at Providence Biltmore, 11 Dorrance Street, Kennedy Plaza, Providence, RI 02903; telephone: (401) 421-0700.

Council address: New England Fishery Management Council, 50 Water Street, Newburyport, MA 01950.

FOR FURTHER INFORMATION CONTACT: Paul J. Howard, Executive Director; telephone: (978) 465-0492.

SUPPLEMENTARY INFORMATION: The committee will meet to develop recommendations for approval of final alternatives in the annual adjustment to the Scallop Fishery Management Plan (FMP) (Framework Adjustment 15 to the FMP); options under consideration for the 2003 fishing year include but are not limited to: an adjustment to the annual day-at-sea allocations for vessels with limited access permits, continuing the controlled access program for one or both of the Hudson Canyon and VA/NC Areas, and a day-at-sea tradeoff exemption procedure. The committee will also review the Habitat Committee’s recommendations for alternatives in Amendment 10 and may develop advice for the September 10-12, 2002 Council meeting. Other business may be taken up as needed.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: August 15, 2002.
Richard W. Surdi,
Acting Director, Office of Sustainable Fisheries, National Marine Fisheries Service.

[FR Doc. 02-21313 Filed 8-20-02; 8:45 am]

BILLING CODE 3510-22-S